DEPARTMENT OF COMMERCE

International Trade Administration

[A-201-827]

Notice of Final Determination of Sales at Less Than Fair Value: Certain Large Diameter Carbon and Alloy Seamless Standard, Line and Pressure Pipe From Mexico

AGENCY: Import Administration, International Trade Administration, Department of Commerce.

ACTION: Notice of Sales at Less than Fair Value.

SUMMARY: On February 4, 2000, the Department of Commerce (“the Department”) published its preliminary determination of sales at less than fair value of certain large diameter carbon and alloy seamless standard, line and pressure pipe (“large diameter seamless pipe”) from Mexico. The investigation covers one manufacturer/exporter, Tubos de Acero de Mexico, S.A. (“TAMSA”). The period of investigation (“POI”) is April 1, 1998, through March 31, 1999.

Based on our analysis of comments received, we have made changes in the margin calculations. Therefore, the final determination differs from the preliminary determination. The final weighted-average dumping margin for the investigated company is listed below in the “Continuation of Suspension of Liquidation” section of this notice.

EFFECTIVE DATE: June 26, 2000.

FOR FURTHER INFORMATION CONTACT: Russell Morris or Geoffrey Craig, AD/CVD Enforcement, Office 6, Group II, Import Administration, International Trade Administration, U.S. Department of Commerce, 14th Street and Constitution Avenue, NW, Washington, DC 20230; telephone: (202) 482-1775 or (202) 482-4161, respectively.

SUPPLEMENTARY INFORMATION:

The Applicable Statute and Regulations

Unless otherwise indicated, all citations to the Tariff Act of 1930, as amended (“the Act”) are references to the provisions effective January 1, 1995, the effective date of the amendments made to the Act by the Uruguay Round Agreements Act (“URAA”). In addition, unless otherwise indicated, all citations to the Department regulations refer to the regulations codified at 19 CFR part 351 (April 1999).

Case History

Since the preliminary determination (see 65 FR 5587 (February 4, 2000) (“Preliminary Determination”)), the following events have occurred:

• On February 11, 2000, the petitioners ¹ submitted ministerial error allegations. The Department accepted the clerical errors and corrected the margin calculation program where it deemed necessary and published a Notice of Amended Preliminary Determination of Sales at Less Than Fair Value: Certain Large Diameter Carbon and Alloy Seamless Standard, Line, and Pressure Pipe From Mexico, 65 FR 13715 (March 14, 2000).

¹ The petitioners in this investigation are: U.S. Steel Group, Lorain Tubular Co. LLC (both units of USX Corp.), and the United Steel Workers of America.

• The Department verified the responses of TAMSA, in Veracruz, Mexico from February 21 through February 25, 2000, and in Houston, Texas from March 1 through March 3, 2000. (see the “Verification” section below).

• On April 26, 2000, the petitioners requested that the Department amend the scope to exclude certain line and riser pipe for use exclusively in deepwater applications and the Department accepted the revised scope language. See Notice of Final Determination of Sales at Less Than Fair Value: Certain Large Diameter Carbon and Alloy Seamless Standard, Line and Pressure Pipe from Japan; and Certain Small Diameter Carbon and Alloy Seamless Standard, Line and Pressure Pipe from Japan and the Republic of South Africa, 65 FR 25907 (May 4, 2000).

• TAMSA and the petitioners filed case and rebuttal briefs on May 1, 2000 and May 8, 2000, respectively.

• On May 15, 2000, we rejected portions of TAMSA's rebuttal brief on the grounds that it contained new factual information. On May 16, 2000, TAMSA resubmitted its rebuttal brief in accordance with the Department's instructions.

Analysis of Comments Received

All issues raised in the case and rebuttal briefs by parties to this investigation, as well as certain other findings by the Department which are summarized in this notice, are addressed in the “Issues and Decision Memorandum for the Final Determination in the Antidumping Duty Investigation of Certain Large Diameter Carbon and Alloy Seamless Standard, Line and Pressure Pipe from Mexico'April 1, 1998, through March 31, 1999” (“Decision Memorandum”), from Holly A. Kuga, Acting Deputy Assistant Secretary, Import Administration, to Richard W. Moreland, Acting Assistant Secretary for Import Administration, dated June 19, 2000, which is hereby adopted by this notice. A list of issues which parties have raised and to which we have responded, all of which are in the Decision Memorandum, is attached to this notice as an Appendix. Parties can find a complete discussion of all issues raised in this investigation and the corresponding recommendations in this public Decision Memorandum which is on file in the Central Records Unit, of the main Department building (“Room B-099”). In addition, a complete version of the Decision Memorandum can be accessed directly on the World Wide Web at: www.ita.doc.gov/import_admin/records/frn. The paper copy and electronic version of the Decision Memorandum are identical in content.

Scope of Investigation

The products covered by the investigation are large diameter seamless carbon and alloy (other than stainless) steel standard, line, and pressure pipes.

For a complete description of the scope of this investigation, see the “Scope of Investigation” section of the Decision Memorandum. The scope of the investigation has been amended since the Preliminary Determination.

Product Comparisons

We compared the products sold by the respondent in the comparison market during the POI to the products sold in the United States during the POI using the methodology described in the Preliminary Determination.

Fair Value Comparisons

To determine whether sales of large diameter seamless pipe from Mexico were made in the United States at less than fair value, we compared constructed export price (“CEP”) to the normal value (“NV”). Our calculations followed the methodologies described in the Preliminary Determination, except as noted below and in the “Final Determination Calculation Memorandum for the Investigation of Certain Large Diameter Carbon and Alloy Seamless Standard, Line and Pressure Pipe from Mexico (“Calculation Memorandum”), from Russell Morris, Case Analyst, to John Brinkmann, Program Manager, dated June 16, 2000, which has been placed in the file in Room B-099.

1. CEP

For the price to the United States, we used CEP as defined in section 772 of the Act. We calculated CEP based on the same methodology as in the Preliminary Determination, with the following exceptions:

The petitioners, in their case brief, alleged certain errors concerning the merchandise processing fee and inland freight expenses. See Comments 5 and 6, respectively, of the Decision Memorandum for a further discussion. We accepted their allegations and made the respective adjustments in the CEP calculation.

2. NV

We used the same methodology to calculate NV as that described in the Preliminary Determination, with the following exception:

The petitioners, in their case brief, alleged an error concerning the variable cost of manufacturing. See Comment 3 of the Decision Memorandum for a further discussion. We accepted their allegation and made the adjustment in the NV calculation.

3. Level of Trade Analysis

We made the same level of trade determinations described in the Preliminary Determination.

Currency Conversion

We made currency conversions in accordance with section 773A of the Act in the same manner as in the Preliminary Determination.

Verification

As provided in section 782(i) of the Act, we verified the information submitted by the respondent for use in our final determination. We used standard verification procedures, including examination of relevant accounting and production records, as well as original source documents provided by the respondents.

Continuation of Suspension of Liquidation

In accordance with section 735(c)(1)(B) of the Act, we are directing the Customs Service to continue to suspend the liquidation of all entries of large diameter seamless pipe from Mexico that are entered, or withdrawn from warehouse, for consumption on or after February 4, 2000, the date of publication of the Preliminary Determination in the Federal Register. The Customs Service shall continue to require a cash deposit or the posting of a bond equal to the weighted-average dumping margin, as indicated in the chart below. These suspension of liquidation instructions will remain in effect until further notice.

Manufacturer/exporter | Margin (percent)
Tubos de Acero de Mexico | 19.65
All Others | 19.65

ITC Notification

In accordance with section 735(d) of the Act, we have notified the International Trade Commission (“ITC”) of our determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

This determination is issued and published pursuant to sections 735(d) and 777(i)(1) of the Act.

Dated: June 19, 2000.
Richard W. Moreland,
Acting Assistant Secretary for Import Administration.

Appendix—List of Comments and Issues in the Decision Memorandum

Comment 1: Coding of U.S. Market Products

Comment 2: Date of Sale Methodology

Comment 3: Variable Cost of Manufacture

Comment 4: Direct Selling Expenses

Comment 5: Merchandise Processing Fee

Comment 6: U.S. Inland Freight Expenses

Comment 7: Unreported U.S. Sales

Comment 8: Short-Term Borrowing Rate

Comment 9: Calculation of Credit Expense

Comment 10: Export Price (“EP”)/Constructed Export Price (“CEP”) Sales Classification

Comment 11: CEP Profit Calculation

[FR Doc. 00-16102 Filed 6-23-00; 8:45 am]

BILLING CODE 3510-DS-P